DEPARTMENT OF THE TREASURY

Internal Revenue Service

Notice of Renewal of the Art Advisory Panel of the Commissioner of Internal Revenue

AGENCY: Internal Revenue Service, Treasury.

ACTION: Notice of renewal of the Art Advisory Panel of the Commissioner of Internal Revenue.

SUMMARY: The charter for the Art Advisory Panel has been renewed for a two-year period beginning January 30, 2020.

FOR FURTHER INFORMATION CONTACT: Maricarmen R. Cuello, C:AP:SEPR:AAS, 51 SW 1st Avenue, Miami, FL 33130, Telephone No. (305) 982-5364 (not a toll free number).

SUPPLEMENTARY INFORMATION: Notice is hereby given under section 10(a)(2) of the Federal Advisory Committee Act (5 U.S.C. App. 2), that the Art Advisory Panel of the Commissioner of Internal Revenue, a necessary committee that is in the public interest, has been renewed for an additional two years beginning on January 30, 2020.

The Panel helps the Internal Revenue Service review and evaluate the acceptability of property appraisals submitted by taxpayers in support of the fair market value claimed on works of art involved in Federal Income, Estate or Gift taxes in accordance with sections 170, 2031, and 2512 of the Internal Revenue Code of 1986, as amended.

For the Panel to perform this function, Panel records and discussions must include tax return information. Therefore, the Panel meetings will be closed to the public since all portions of the meetings will concern matters that are exempted from disclosure under the provisions of section 552b(c)(3), (4), (6) and (7) of Title 5 of the U.S. Code. This determination, which is in accordance with section 10(d) of the Federal Advisory Committee Act, is necessary to protect the confidentiality of tax returns and return information as required by section 6103 of the Internal Revenue Code.

Charles P. Rettig,
Commissioner of Internal Revenue.

[FR Doc. 2020-02630 Filed 2-10-20; 8:45 am]

BILLING CODE 4830-01-P